DEPARTMENT OF THE INTERIOR

National Park Service

Notice of Availability of a Final Environmental Impact Statement for the General Management Plan, Abraham Lincoln Birthplace National Historic Site

SUMMARY: The National Park Service (NPS) announces the availability of the Final Environmental Impact Statement (FEIS) for the General Management Plan (GMP) for Abraham Lincoln Birthplace National Historic Site, Kentucky. This document will be available for public review pursuant to Section 102(2)(C) of the National Environmental Policy Act of 1969 and NPS policy in Director's Order Number 2 (Park Planning) and Director's Order Number 12 (Conservation Planning, Environmental Impact Analysis, and Decision-making). The authority for publishing this notice is 40 CFR 1506.6.

The document provides a framework for management, use, and development of the historic site by the NPS for the next 15 to 20 years. The document describes four management alternatives, including a No-Action Alternative and the NPS's preferred alternative. The anticipated environmental impacts of those alternatives are also analyzed. Public comment on the draft plan was considered when preparing the final.

DATES: The NPS will execute a Record of Decision no sooner than 30 days following the Environmental Protection Agency's notice in the Federal Register.

ADDRESSES: Copies of the FEIS and GMP are available from the Superintendent, Abraham Lincoln Birthplace National Historic Site, 2995 Lincoln Farm Road, Hodgenville, Kentucky 42748-9707; telephone: 270-358-3137. An electronic copy of the document is available on the Internet at http://parkplanning.nps.gov/.

FOR FURTHER INFORMATION CONTACT: The Superintendent, Abraham Lincoln National Historic Site, at the address and telephone number shown above, Matthew Safford at 303-969-2898, or Amy Wirsching at 404-562-3124, extension 607.

The responsible official for the FEIS is Patricia A. Hooks, Regional Director, Southeast Region, National Park Service, 100 Alabama Street SW., 1924 Building, Atlanta, Georgia 30303.

Dated: August 28, 2006.
Patricia A. Hooks,
Regional Director, Southeast Region.

[FR Doc. E6-16686 Filed 10-6-06; 8:45 am]

BILLING CODE 4310-5C-P